DEPARTMENT OF COMMERCE

National Oceanic and Atmospheric Administration

[I.D. 041603C]

Vessel Monitoring Systems; Additional Approved Mobile Transmitting Unit

AGENCY: National Marine Fisheries Service (NMFS), National Oceanic and Atmospheric Administration (NOAA), Commerce.

ACTION: Notice of vessel monitoring systems; approval.

SUMMARY: This document provides notice of additional vessel monitoring systems (VMS) approved by NOAA for use by pelagic longline vessels in the Atlantic Highly Migratory Species (HMS) Fisheries and sets forth relevant features of the VMS. This notification is being issued in addition to the approval notice published on March 11, 2003, and provides updated address information for one of the VMS providers.

ADDRESSES: To obtain copies of the list of NOAA approved VMS mobile transmitting units and NOAA approved VMS communications service providers, or information regarding the status of VMSs being evaluated by NOAA for approval, write to NMFS Office for Law Enforcement (OLE), 8484 Georgia Avenue, Suite 415, Silver Spring, MD 20910.

To submit a completed and signed checklist, mail or fax it to NOAA Enforcement, 9721 Executive Center Drive North, Koger Building, St. Petersburg, FL 33702, fax 727-570-5575.

For more addresses regarding approved VMS, see the SUPPLEMENTARY INFORMATION section, under the heading VMS Provider Addresses.

FOR FURTHER INFORMATION CONTACT: For current listing information Mark Oswell, Outreach Specialist, phone 301-427-2300, fax 301-427-2055. For questions regarding VMS installation, activation checklists, and status of evaluations, contact Jonathan Pinkerton, National VMS Program Manager, phone 301-427-2300, fax 301-427-2055. For questions regarding the checklist, contact Fred Kyle, Special Agent, NMFS Office for Law Enforcement, Southeast Division, phone 727-570-5344.

The public may acquire this notice, installation checklist, and relevant updates via the “fax-back” service, or at the OLE website http://www.nmfs.noaa.gov/ole/vms.html. Telephone requests can be made by calling 301-427-2300.

SUPPLEMENTARY INFORMATION:

I. The VMS Requirement

Information regarding the VMS requirement was described in the VMS approval notice published March 11, 2003 (68 FR 11534) and is not repeated here. This approval notice is being issued in addition to that notice.

II. VMS Mobile Transceiver Unit

The additional Inmarsat-C satellite communications VMS transmitting unit that meets the minimum technical requirements for the HMS Fisheries is the Thrane & Thrane Fishery “Mini-C” (part number TT-3026-NMFS). The address for the Thrane & Thrane distributor (LandSea Systems) dealer contact is provided under the heading VMS Provider Addresses.

Pursuant to 50 CFR 635.69(d), NMFS will provide an installation and activation checklist for the below listed units which the vessel owner must follow. The vessel owner must sign a statement on the checklist certifying compliance with the installation procedures and return the checklist to NMFS. Installation can be performed by experienced crew or by an electronics specialist, and the installation cost is paid by the owner.

The owner may confirm that automated position reports are being received by calling the NMFS Office for Law Enforcement in St. Petersburg, FL at 727-570-5344.

Thrane & Thrane TT-3026-NMFS features: The transceiver consists of an integrated GPS/Inmarsat-C unit mounted atop the vessel. The unit is factory pre-configured for NMFS VMS operations (non-Global Maritime Distress & Safety System (non-GMDSS)). Satellite commissioning services are provided by LandSea Systems personnel.

Automatic GPS position reporting starts after transceiver installation and power activation onboard the vessel. The unit is an integrated transceiver/antenna/GPS design using a floating 10 to 32 VDC power supply. The unit is configured for automatic reduced position transmissions when the vessel is stationary (i.e., in port). It allows for port stays without power drain or power shut down. The unit restarts normal position transmission automatically when the vessel goes to sea.

A configuration option is available to automatically send position reports to a private address, such as a fleet management company. Another available option is the ability to send and receive private e-mail and other messages with the purchase and installation of an input device such as a laptop or personal computer.

A vessel owner wishing to purchase this system may contact the entity identified under the heading VMS Provider Addresses for Thrane & Thrane TT-3026-NMFS. The owner should identify himself or herself as a vessel owner in the “United States HMS Fishery.” The Thrane & Thrane unitized transceiver the vessel owner purchases will be configured for the HMS Fisheries.

To use the Mini-C, the vessel owner will need to establish an Inmarsat-C system use contract with an approved Inmarsat-C communications service provider. The owner will be required to complete the Inmarsat-C “Registration for Service Activation for Maritime Mobile Earth Station.” The owner should consult with LandSea Systems when completing this form.

LandSea Systems personnel will perform the following before shipment: (a) configure the TT-3026-NMFS according to NMFS OLE specifications for the HMS Fisheries; (b) download the predetermined NMFS position reporting and broadcast command identification numbers into the unit; (c) test the unit to ensure operation when installation has been completed on the vessel; and (d) forward the Inmarsat service provider and TT-3026-NMFS identifying information to the NOAA Office for Law Enforcement.

III. Communications Service Providers

This information was provided in an earlier notice published March 11, 2003 (68 FR 11534) and is not repeated here. As a convenience to the vessel owner both Telenor and Xantic services and customer support are available through LandSea Systems. LandSea Systems provides customer service for Xantic users to support and establish two-way transmission of transceiver and land-based control centers. This supports the Office of Law Enforcement's message needs and, optionally, fishermen's private messaging needs.

IV. VMS Provider Addresses

For Thrane & Thrane TT-3026-NMFS information, contact Ken Ravenna, Marine Products, LandSea Systems, Inc., 509 Viking Drive, Suite K, L, and M, Virginia Beach, VA 23452; voice: 757-463-9557; fax: 757-463-9581, e-mail: KCR@LandSeaSystems.com.; website: http://www.landseasystems.com.

For Telenor information, contact Telenor Satellite Services, 6560 Rock Spring Drive, Bethesda, MD 20817; Telenor Customer Care, phone: 800-685-7898 or 301-838-7700; e-mail: www.customercare@telenor-usa.com.; website: www.telenor-usa.com. Alternate Contact: Courtney Coleman, Manager COMSAT-C Services Marketing, 6560 Rock Spring Dr., Bethesda, MD 20817; phone: 301-214-3293; e-mail: courtney.coleman@telenor-usa.com.

For Xantic, the contact information published in the March 11, 2003 notice (68 FR 11534) is no longer valid. The new contact for Xantic is LandSea Systems Inc., Donna Sherman, 509 Viking Drive, Suite K, L, and M, Virginia Beach, VA 23452; voice: 757 463-9557; fax: 757 463-9581 e-mail: airtime@landseasystems.com. Alternate contacts: Xantic, Folef Hooft Graafland, 6100 Hollywood Boulevard, Suite 410, Hollywood, FL 33024; voice: (954) 962-9908 Ext. 11; fax: (954) 962-1164; Cellular:(954) 214-2609; e-mail: folef.hooftgraafland@Xantic.net; Andre Cortese, 1211 Connecticut Ave., NW, Suite 504, Washington, DC 20036; telephone number: 202-785-5615; e-mail: andre.cortese@Xantic.net; Bobbie Thach, 1211 Connecticut Ave, NW Suite 504, Washington, DC 20036; voice: (202) 785-5614; fax: (202) 785-5616; e-mail: bobbie.thach@Xantic.net. Customer Service, contact LandSea Systems, Inc.,509 Viking Drive, Suite K, L, and M, Virginia Beach, VA 23452; voice: 757-463-9557; fax: 757-463-9581, e-mail: KCR@LandSeaSystems.com.; or Xantic Netherlands, toll free: 1-888-440-8988; website: www.Xantic.net.

Authority: 16 U.S.C. 1801, et seq.

Dated: April 25, 2003.
Rebecca Lent,
Deputy Assistant Administrator for Regulatory Programs, National Marine Fisheries Service.

[FR Doc. 03-10803 Filed 4-30-03; 8:45 am]

BILLING CODE 3510-22-S